SOCIAL SECURITY ADMINISTRATION

20 CFR Parts 404, 405, and 416

[Docket No. SSA-2007-0053]

Compassionate Allowances for Early-Onset Alzheimer's Disease and Related Dementias; Office of the Commissioner, Hearing

AGENCY: Social Security Administration (SSA).

ACTION: Announcement of public hearing.

SUMMARY: We are considering ways to quickly identify diseases and other serious medical conditions that obviously meet the definition of disability under the Social Security Act (Act) and can be identified with minimal objective medical information. We are calling this method “Compassionate Allowances.” We will hold a hearing on July 29, 2009, to obtain information about possible methods of identifying adults with Early-Onset Alzheimer's Disease and related dementias and the advisability of implementing compassionate allowances for people with these diseases.

DATES: This hearing will be held on July 29, 2009, between 8:30 a.m. and 5 p.m., Central Daylight Time (CDT), in Chicago, IL. The hearing will be held at the Drake Hotel, 140 East Walton Place, Chicago, IL 60611. While the public is welcome to attend the hearing, only invited witnesses will present testimony.

You may also watch the proceedings live via Webcast beginning at 9 a.m. CDT. You may access the Webcast line for the hearing on the Social Security Administration Web site at http://www.socialsecurity.gov/compassionate_allowances/hearings0709.htm.

ADDRESSES: You may submit written comments about the compassionate allowances initiative with respect to adults with Early-Onset Alzheimer's Disease and Related Dementias, as well as topics covered at this hearing by (1) e-mail addressed to Compassionate.Allowances@ssa.gov; or (2) regular mail to Nancy Schoenberg, Acting Director, Office of Compassionate Allowances and Disability Outreach, ODP, ORDP, Social Security Administration, 4671 Annex Building, 6401 Security Boulevard, Baltimore, MD 21235-6401. We welcome your comments, but we may not respond directly to comments sent in response to this notice of the hearing.

FOR FURTHER INFORMATION CONTACT: Compassionate.Allowances@ssa.gov. You may also mail inquiries about this meeting to Nancy Schoenberg at the above-mentioned address. For information on eligibility or filing for benefits, call our national toll-free number 1-800-772-1213 or TTY 1-800-325-0778, or visit Social Security online, at http://www.socialsecurity.gov.

SUPPLEMENTARY INFORMATION:

Background

Under titles II and XVI of the Act, we pay benefits to claimants who meet our rules for entitlement and have medically determinable physical or mental impairments that are severe enough to meet the definition of disability in the Act. The rules for determining disability can be very complicated, but some claimants have such serious medical conditions that their conditions obviously meet our disability standards. To better address the needs of these claimants, we have implemented the Compassionate Allowance initiative to quickly identify diseases and other medical conditions that invariably qualify under our Listing of Impairments based on minimal objective medical information.

Will We Respond to Your Comments?

We will carefully consider your comments, although we will not respond directly to comments sent in response to this notice or the hearing.

Additional Hearings

We have held three hearings since December 2007. These hearings were on rare diseases, cancers, and traumatic brain injury and stroke. You may access the transcripts of the hearings at http://www.socialsecurity.gov/compassionateallowances. We plan to hold additional hearings on other conditions and will announce those hearings later with notices in the Federal Register.

(Catalog of Federal Domestic Assistance Program Nos. 96.001, Social Security—Disability Insurance; 96.006, Supplemental Security Income.)

Dated: July 1, 2009.
Michael J. Astrue,
Commissioner of Social Security.

[FR Doc. E9-16277 Filed 7-8-09; 8:45 am]

BILLING CODE 4191-02-P